DEPARTMENT OF THE INTERIOR

Bureau of Land Management

[CA-930-1430-ET, CACA 7767 and CACA 44322]

Notice of Proposed Withdrawal, and Transfer of Jurisdiction, and Opportunity for Public Meeting; California

AGENCY: Bureau of Land Management, Interior.

ACTION: Notice.

SUMMARY: The Department of Veterans Affairs has filed an application to withdraw approximately 7 acres of public lands, which are currently withdrawn to the Department of Navy for military purposes. The Department of Navy has determined the lands are no longer needed for military purposes and has agreed to partially relinquish their withdrawal. The lands are needed for expansion of the Fort Rosecrans National Cemetery, permitting the expansion of burial facilities to serve veterans in the San Diego metropolitan area. The Department of Veterans Affairs has also requested that the administrative jurisdiction be permanently transferred to them. The lands have been and will remain withdrawn from settlement, sale, location, or entry under the general land laws, including the mining laws.

DATES: Comments and requests for a public meeting must be received by December 26, 2002.

ADDRESSES: Comments and meeting requests should be sent to Howard K. Stark, Chief, Branch of Lands Management (CA-930), Bureau of Land Management, 2800 Cottage Way, Suite W-1834, Sacramento, California 95825-1886.

FOR FURTHER INFORMATION CONTACT: Duane Marti, Realty Specialist, Bureau of Land Management, 916-978-4675.

SUPPLEMENTARY INFORMATION: 1. The Department of Veterans Affairs has filed an application to withdraw the following described public lands from settlement, sale, location, or entry under the general land laws, including the mining laws, subject to valid existing rights for expansion of the Fort Rosecrans National Cemetery:

San Bernardino Meridian

T. 17 S., R. 4 W.,

That portion of lot 37 more particularly described by a metes and bounds survey that was prepared by the Department of Veterans Affairs.

The areas described aggregate 7 acres, more or less, in San Diego County. The subject lands are located directly east of the current Fort Rosecrans National Cemetery boundary. Once the survey has been approved by the Bureau of Land Management, copies of the survey will be available from the Bureau of Land Management at the address listed above.

2. The Department of Veterans Affairs has requested that administrative jurisdiction of those lands described above in paragraph 1 be permanently transferred to the Department of Veterans Affairs, so that the lands can be managed as part of the Fort Rosecrans National Cemetery and shall thereafter be subject to all laws and regulations applicable thereto, subject to valid existing rights.

3. For a period of 90 days from the date of publication of this notice, all persons who wish to submit comments, suggestions, objections, or requests for public meetings in connection with the proposed actions described in this notice, may present their views in writing to the Chief, Branch of Lands Management, California State Office, Bureau of Land Management, at the address listed above. If the authorized officer determines that a public meeting should be held, it will be scheduled and conducted in accordance with 43 CFR 2310.3-1(c)(2). A notice of the time and place would be published in the Federal Register at least 30 days before the scheduled date of the public meeting.

4. The application will be processed in accordance with the regulations set forth in 43 CFR part 2300.

5. The subject lands are currently withdrawn for the Department of Navy for military purposes and therefore are segregated from settlement, sale, location, or entry under the general land laws and from location and entry under the United States mining laws. The temporary uses which may be permitted during this segregative period are those which are compatible with the use of the lands, as determined by the Bureau of Land Management, the Department of Navy, and the Department of Veterans Affairs.

Dated: August 28, 2002.
Howard K. Stark,
Chief, Branch of Lands Management.

[FR Doc. 02-24470 Filed 9-25-02; 8:45 am]

BILLING CODE 4310-40-P